DEPARTMENT OF THE TREASURY

Senior Executive Service; Departmental Performance Review Board

AGENCY: Treasury Department.

ACTION: Notice of members of the Departmental Performance Review Board (PRB).

SUMMARY: This notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

DATES: Membership is effective on the date of this notice.

FOR FURTHER INFORMATION CONTACT: Julia J. Markham, Director, Office of Executive Resources, 1500 Pennsylvania Avenue NW, ATTN: 1722 Eye Street, 9th Floor, Washington, DC 20220, Telephone: (202) 927-4370.

Composition of Departmental PRB: The Board shall consist of at least three members. In the case of an appraisal of a career appointee, more than half the members shall consist of career appointees. The names and titles of the PRB members are as follows:

• Kody H. Kinsley, Assistant Secretary for Management

• Jamal El-Hindi, Deputy Director, Financial Crimes and Enforcement Network

• Kimberly McCoy, Deputy Commissioner, Fiscal Accounting and Shared Services, Bureau of Fiscal Services

• Martha Pacold, Deputy General Counsel

• Kirsten Wielobob, Deputy Commissioner, Services and Enforcement

• David A. Lebryk, Fiscal Assistant Secretary

• John J. Manfreda, Administrator, Alcohol and Tobacco Tax and Trade Bureau

• Mary G. Ryan, Deputy Administrator, Alcohol and Tobacco Tax and Trade Bureau

• Sheryl Morrow, Commissioner, Bureau of Fiscal Service

• Leonard Olijar, Director, Bureau of Engraving and Printing

• Jeffrey Tribiano, Deputy Commissioner, Operations Support, Internal Revenue Service

Dated: January 11, 2018.
Julia J. Markham,
Director, Office of Executive Resources.

[FR Doc. 2018-01277 Filed 1-24-18; 8:45 am]

BILLING CODE 4810-25-P